DEPARTMENT OF LABOR

Office of the Secretary

Submission for OMB Review: Comment Request

April 16, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: Employee Benefit Plan Claims Procedure Under ERISA.

OMB Control Number: 1210-0053.

Affected Public: Private sector.

Estimated Number of Respondents: 6,646,164.

Total Estimated Annual Burden Hours: 506,808.

Total Estimated Annual Costs Burden (operation and maintenance): $509,877,037.

Description: The Employee Retirement Income Security Act of 1974 (ERISA) Section 503 and the Department's implementing regulations at 29 CFR 2560.503-1 require employee benefit plans to establish procedures for resolving benefit claims under the plan, including initial claims and appeal of denied claims. The regulation requires specific information to be disclosed at different stages of the claims process. It also requires claims denial notices to be provided within specific time frames and to include specific information. For additional information, see related notice published in the Federal Register on January 14, 2010 (Vol. 75 FR page 2161).

Agency: Employee Benefits Security Administration.

Type of Review: Extension without change of a currently approved collection.

Title of Collection: PTE 80-83—Sale of Securities to Reduce Indebtedness of Party in Interest.

OMB Control Number: 1210-0064.

Affected Public: Private sector.

Estimated Number of Respondents: 25.

Total Estimated Annual Burden Hours: 15.

Total Estimated Annual Costs Burden (operation and maintenance): $0.

Description: This Class Exemption exempts from the prohibited transaction provisions of the Employee Retirement Income Security Act of 1974 certain transactions involving an employee benefit plan's purchase of securities that may aid the issuer of the securities, who is a party in interest to the plan, in reducing or retiring its indebtedness to a third party. For additional information, see related notice published in the Federal Register on December 30, 2009 (Vol. 74 FR page 69366).

Agency: Employee Benefits Security Administration.

Type of Review: Extension without change of a currently approved collection.

Title of Collection: Prohibited Transaction Class Exemption 75-1 Security Transactions with Broker-Dealers, Reporting Dealers and Banks.

OMB Control Number: 1210-0092.

Affected Public: Private sector.

Estimated Number of Respondents: 8,376.

Total Estimated Annual Burden Hours: 1,396.

Total Estimated Annual Costs Burden (operation and maintenance): $0.

Description: This class exemption from the prohibited transaction provisions of the Employee Retirement Income Security Act of 1974 permits certain banks, registered broker-dealers, and reporting dealers in government securities who are parties in interest to employee benefit plans to engage in specified kinds of securities transactions with the plans. For additional information, see related notice published in the Federal Register on December 31, 2009 (Vol. 74 FR page 69366).

Agency: Employee Benefits Security Administration.

Type of Review: Extension without change of a currently approved collection.

Title of Collection: PTE 88-59—Residential Mortgage Financing Arrangements Involving Employee Benefit Plans.

OMB Control Number: 1210-0095.

Affected Public: Private sector.

Estimated Number of Respondents: 2,237.

Total Estimated Annual Burden Hours: 932.

Total Estimated Annual Costs Burden (operation and maintenance): $0.

Description: This class exemption permits employee benefit plans to enter into specified transactions involving residential mortgage loans with parties in interest without violating the prohibited transaction provisions of the Employee Retirement Income Security Act of 1974, provided specified conditions are met. Among other conditions, the plan must maintain records pertaining to covered transactions for the duration of the loan and must make the records available upon request to plan trustees, investment managers, participants and beneficiaries, and agents of the Department or the Internal Revenue Service. For additional information, see related notice published at in the Federal Register on December 31, 2009 (Vol. 74 FR page 69363).

Agency: Employee Benefits Security Administration.

Type of Review: Extension without change of a currently approved collection.

Title of Collection: Petition for Finding Under Section 3(40) of ERISA.

OMB Control Number: 1210-0119.

Affected Public: Private sector.

Estimated Number of Respondents: 45.

Total Estimated Annual Burden Hours: 225.

Total Estimated Annual Costs Burden (operation and maintenance): $163,268.

Description: The Department's regulations at 29 CFR 2570.150 et seq. provide procedures for an entity against whom State jurisdiction has been asserts to petition the Secretary to make a finding under section 3(40)(A)(i) of the Employee Retirement Income Security Act of 1974 (ERISA) that the entity is established or maintained under or pursuant to one or more collective bargaining agreements. The regulations establish procedures for initiating an administrative proceeding before the Office of Administrative Law Judges (ALJs) and establish that an ALJ's decision shall constitute a finding under section 3(40)(A)(i) of ERISA. The regulations also provide for an appeal of an ALJ decision to the Secretary. For additional information, see related notice published in the Federal Register on December 30, 2009 (Vol. 74 FR page 69148).

Darrin A. King,
Departmental Clearance Officer.

[FR Doc. 2010-9182 Filed 4-20-10; 8:45 am]

BILLING CODE 4510-29-P